FEDERAL COMMUNICATIONS COMMISSION

Notice of Public Information Collection(s) Being Reviewed by the Federal Communications Commission

April 4, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 14, 2001. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-XXXX.

Title: Procedures for Reviewing Requests for Relief from State and Local Regulations Pursuant to section 332 (c)(7)(B)(v) of the Communications Act of 1934.

Form No.: N/A.

Type of Review: New collection.

Respondents: Business or other for-profit, not-for-profit institutions, state, local or tribal government.

Number of Respondents: 10 respondents; 10 responses.

Estimated Time Per Response: .5 hours.

Frequency of Response: Third party disclosure requirement.

Total Annual Burden: 5 hours.

Total Annual Cost: N/A.

Needs and Uses: This collection of information will be used to ensure that petitions seeking relief from impermissible State and Local regulation of personal wireless service facilities based on the environmental effects of radio-frequency emissions under 47 U.S.C. 332(c)(7)(B)(v) will be resolved efficiently with an opportunity for all interested parties to participate. The service requirements instructs petitioners to serve a copy of such petitions on those state and local governments that are subject of the petitions, as well as those state and local governments otherwise specifically identified in the petitions whose actions petitioners argue are inconsistent with federal law.

The information received will be used to ensure that petitioners seeking relief under 47 U.S.C. 332(c)(7)(B)(v) will be resolved efficiently, with an opportunity for all interested parties to participate.

OMB Control No.: 3060-0754.

Title: Children's Television Programming Report.

Form No.: FCC Form 398.

Type of Review: Extension of a currently approved collection.

Respondents: Business or other for-profit.

Number of Respondents: 1,250 respondents; 5,000 responses.

Estimated Time Per Response: 6 hours per quarter.

Frequency of Response: Recordkeeping requirement and quarterly reporting requirement.

Total Annual Burden: 30,000 hours.

Total Annual Cost: $490,000.

Needs and Uses: The FCC Form 398 requests information to identify the individual station and children's educational and informational programs it airs to meet its obligation under the Children's Television Act of 1990. The form also requests information on educational and informational programs that the station plans to air in the next quarter and on each preempted core program. This standardized form will facilitate consistency of reporting among all licensees and assist in efforts by the public and the Commission to monitor compliance with the Children's Television Act.

Federal Communications Commission.
Magalie Roman Salas,
Secretary.

[FR Doc. 01-9040 Filed 4-11-01; 8:45 am]

BILLING CODE 6712-01-U